INTERNATIONAL TRADE COMMISSION

Sunshine Act Meeting

AGENCY: International Trade Commission.

Time and Date: April 17, 2003 at 11 a.m.

Place: Room 101, 500 E Street SW., Washington, DC 20436, Telephone: (202) 205-2000.

Status: Open to the public.

Matters to be Considered:

1. Agenda for future meetings: none.

2. Minutes

3. Ratification List

4. Inv. Nos. 701-TA-433 and 731-TA-1029 (Preliminary) (Allura Red Coloring from India)—briefing and vote. (The Commission is currently scheduled to transmit its determination to the Secretary of Commerce on or before April 18, 2003; Commissioners' opinions to the Secretary of Commerce on or before April 25, 2003.)

5. Outstanding action jackets: none.

In accordance with Commission policy, subject matter listed above, not disposed of at the scheduled meeting, may be carried over to the agenda of the following meeting.

By order of the Commission.
Issued: April 3, 2003.
Marilyn R. Abbott,
Secretary to the Commission.

[FR Doc. 03-8651 Filed 4-4-03; 12:33 pm]

BILLING CODE 7020-02-P